ENVIRONMENTAL PROTECTION AGENCY

[FRL-7425-4]

Agency Information Collection Activities: Submission for OMB Review; Comment Request; General Hazardous Waste Facility Standards

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: General Hazardous Waste Facility Standards, OMB Control No. 2050-0120, expires on December 31, 2002. The ICR describes the nature of the information collection and its expected burden and cost; where appropriate, it includes the actual data collection instrument.

DATES: Comments must be submitted on or before January 21, 2003.

ADDRESSES: Send comments, referencing EPA ICR No. 1571.07 and OMB Control No. 2050-0120, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov or download off the Internet at http://www.epa.gov/icr and refer to EPA ICR No. 1571.07. For technical questions about the ICR contact David Eberly at (703) 308-8645, or by e-mail at eberly.david@epa.gov.

SUPPLEMENTARY INFORMATION: Title: General Hazardous Waste Facility Standards , OMB Control No. 2050-0120, EPA ICR No. 1571.07, expiring on December 31, 2002. This is a request for extension of a currently approved collection.

Abstract: Section 3004 of the Resource Conservation and Recovery Act (RCRA), as amended, requires that the U.S. Environmental Protection Agency (EPA) develop standards for hazardous waste treatment, storage, and disposal facilities (TSDFs) as may be necessary to protect human health and the environment. Subsections 3004(a)(1), (3), (4), (5), and (6) specify that these standards include, but not be limited to, the following requirements:

• Maintaining records of all hazardous wastes identified or listed under subtitle C that are treated, stored, or disposed of, and the manner in which such wastes were treated, stored, or disposed of;

• Operating methods, techniques, and practices for treatment, storage, or disposal of hazardous waste;

• Location, design, and construction of such hazardous waste treatment, disposal, or storage facilities;

• Contingency plans for effective action to minimize unanticipated damage from any treatment, storage, or disposal of any such hazardous waste; and

• Maintaining or operating such facilities and requiring such additional qualifications as to ownership, continuity of operation, training for personnel, and financial responsibility as may be necessary or desirable.

The regulations implementing these requirements are codified in the Code of Federal Regulations (CFR) Title 40, parts 264 and 265. The collection of this information enables EPA to properly determine whether owners/operators or hazardous waste treatment, storage, and disposal facilities meet the requirements of section 3004(a) of RCRA. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on August 13, 2002 (67 FR 52718); no comments were received.

Burden Statement: The annual public reporting and recordkeeping burden for this collection of information is estimated to average 319 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for profit.

Estimated Number of Respondents: 1,675.

Frequency of Response: On occasion.

Estimated Total Annual Hour Burden: 719,059.

Estimated Total Annualized Capital, Operating/Maintenance Cost Burden: $760,000.

Send comments on the Agency's need for this information, the accuracy of the provided burden estimates, and any suggested methods for minimizing respondent burden, including through the use of automated collection techniques to the addresses above. Please refer to EPA ICR No. 1571.07 and OMB Control No. 2050-0120 in any correspondence.

Dated: December 4, 2002.
Oscar Morales,
Director, Collection Strategies Division.

[FR Doc. 02-32132 Filed 12-19-02; 8:45 am]

BILLING CODE 6560-50-P